DEPARTMENT OF COMMERCE

International Trade Administration

[A-570-890]

Wooden Bedroom Furniture From the People's Republic of China: Preliminary Results of Antidumping Duty Administrative Review, Partial Rescission of Review, and Preliminary Determination of No Shipments; 2018

AGENCY: Enforcement and Compliance, International Trade Administration, Department of Commerce.

SUMMARY: The Department of Commerce (Commerce) is rescinding reviews for all but four companies and preliminarily determines that these four companies had no shipments of subject merchandise during the period of review (POR) January 1, 2018 through December 31, 2018. We invite interested parties to comment on these preliminary results.

DATES: Applicable October 10, 2019.

FOR FURTHER INFORMATION CONTACT: Thomas Hanna, AD/CVD Operations, Office IV, Enforcement and Compliance, International Trade Administration, Department of Commerce, 1401 Constitution Avenue NW, Washington, DC 20230; telephone: (202) 482-0835.

SUPPLEMENTARY INFORMATION:

Background

After initiating this review with respect to multiple companies or company groupings,¹ interested parties timely withdrew review requests for all but four companies. For a complete description of the events that followed the initiation of this administrative review, see the Preliminary Decision Memorandum which is hereby adopted by this notice.²

¹ See Initiation of Antidumping and Countervailing Duty Administrative Reviews, 84 FR 12200 (April 1, 2019).

² See Memorandum, “Decision Memorandum for the Preliminary Results of the Antidumping Duty Administrative Review: Wooden Bedroom Furniture from the People's Republic of China,” dated concurrently with, and hereby adopted by, this notice (Preliminary Decision Memorandum).

The Preliminary Decision Memorandum is a public document and is on file electronically via Enforcement and Compliance's Antidumping and Countervailing Duty Centralized Electronic Service System (ACCESS). ACCESS is available to registered users at http://access.trade.gov and in the Central Records Unit, room B8024 of the main Commerce building. In addition, a complete version of the Preliminary Decision Memorandum can be accessed directly at http://enforcement.trade.gov/frn/. The signed Preliminary Decision Memorandum and the electronic version of the Preliminary Decision Memorandum are identical in content.

Scope of the Order

The product covered by the order is wooden bedroom furniture, subject to certain exceptions.³ Imports of subject merchandise are classified under the Harmonized Tariff Schedule of the United States (HTSUS) subheadings: 9403.50.9042, 9403.50.9045, 9403.50.9080, 9403.90.7005, 9403.90.7080, 9403.50.9041, 9403.60.8081, 9403.20.0018, 9403.90.8041, 7009.92.1000 or 7009.92.5000. Although the HTSUS subheadings are provided for convenience and customs purposes, the written product description in the order remains dispositive. For a complete description of the scope of the Order, see the Preliminary Decision Memorandum.

³ See Notice of Amended Final Determination of Sales at Less Than Fair Value and Antidumping Duty Order: Wooden Bedroom Furniture from the People's Republic of China, 70 FR 329 (January 4, 2005) (Order).

Methodology

Commerce is conducting this review in accordance with section 751(a)(1)(B) of the Tariff Act of 1930, as amended (the Act) and 19 CFR 351.213. For a full description of the methodology underlying our preliminary results of review, see the Preliminary Decision Memorandum. A list of topics discussed in the Preliminary Decision Memorandum is provided in Appendix I to this notice.

Partial Rescission of Review

Pursuant to 19 CFR 351.213(d)(1), Commerce will rescind an administrative, in whole or in part, if the party that requested the review withdraws its request within 90 days of the publication of the notice of initiation of the requested review. Certain interested parties withdrew their review requests with respect to all but four companies or company groupings for which Commerce initiated this review ⁴ by the 90-day deadline, and no other party requested an administrative review of the antidumping duty order for these companies. Therefore, Commerce is rescinding this review, in part, with respect to the companies listed in Appendix II to this notice. The review will continue with respect to the following four companies: (1) Eurosa (Kunshan) Co., Ltd. and Eurosa Furniture Co., (PTE) Ltd.; (2) Shenyang Shining Dongxing Furniture Co., Ltd.; (3) Sunforce Furniture (Hui -Yang) Co., Ltd., Sun Fung Wooden Factory, Sun Fung Co., Shin Feng Furniture Co., Ltd., Stupendous International Co., Ltd.; and (4) Yeh Brothers World Trade Inc.

⁴ See Petitioners' Letter, “Wooden Bedroom Furniture From The People's Republic of China: Partial Withdrawal Of Request For Administrative Review, dated June 27, 2019; see also Kimball International, Inc.'s, Kimball Furniture Group, Inc.'s, and Kimball Hospitality Inc.'s Letter, “Wooden Bedroom Furniture from The People's Republic of China: Withdrawal of Request for Administrative Review,” dated June 27, 2019; and Guangzhou Maria Yee Furnishings Ltd.'s, PYLA HK LIMITED's, and MARIA YEE, INC.'s Letter, “Wooden Bedroom Furniture from the People's Republic of China: Maria Yee's Withdrawal of Request for Review,” dated June 28, 2019.

Preliminary Determination of No Shipments

Based on our analysis of U.S. Customs and Border Protection (CBP) information, and the no shipment certifications submitted by the four companies under review, Commerce preliminarily determines that the following four companies did not have any shipments of subject merchandise during the POR: (1) Eurosa (Kunshan) Co., Ltd. and Eurosa Furniture Co., (PTE) Ltd.; (2) Shenyang Shining Dongxing Furniture Co., Ltd.; (3) Sunforce Furniture (Hui -Yang) Co., Ltd., Sun Fung Wooden Factory, Sun Fung Co., Shin Feng Furniture Co., Ltd., Stupendous International Co., Ltd.; and (4) Yeh Brothers World Trade Inc.

For additional information regarding this determination, see the Preliminary Decision Memorandum. Consistent with Commerce's practice in non-market economy (NME) cases, Commerce is not rescinding this review with respect to these four companies, but intends to complete the review with respect to the companies for which it has preliminarily found no shipments and issue appropriate instructions to CBP based on the final results of the review.⁵

⁵ See Non-Market Economy Antidumping Proceedings: Assessment of Antidumping Duties, 76 FR 65694, 65694-95 (October 24, 2011) and the “Assessment Rates” section, infra.

Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Pursuant to 19 CFR 351.309(c)(2) and (d)(2), parties who submit case briefs or rebuttal briefs in this investigation are encouraged to submit with each argument: (1) A statement of the issue; (2) a brief summary of the argument; and (3) a table of authorities.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.All submissions, with limited exceptions, must be filed electronically using ACCESS. An electronically filed document must be received successfully in its entirety by 5 p.m. Eastern Time (ET) on the due date. Documents excepted from the electronic submission requirements must be filed manually (e.g., in paper form) with the APO/Dockets Unit in Room 18022 of the main Commerce building and stamped with the date and time of receipt by 5 p.m. ET on the due date.

Unless extended, Commerce intends to issue the final results of this review, which will include the results of its analysis of issues raised in any briefs received, within 120 days of publication of these preliminary results, pursuant to section 751(a)(3)(A) of the Act.

Assessment Rates

Upon issuing the final results of this review, Commerce will determine, and CBP shall assess, antidumping duties on all appropriate entries covered by this review.⁶ Commerce intends to issue assessment instructions to CBP 15 days after the publication date of the final results of this review. Pursuant to Commerce's practice in NME cases, if we continue to determine that the four companies noted above had no shipments of subject merchandise, any suspended entries of subject merchandise during the POR under their case numbers will be liquidated at the China-wide entity rate.⁷

⁶ See 19 CFR 351.212(b).

⁷ For a full discussion of this practice, see Non-Market Economy Antidumping Proceedings: Assessment of Antidumping Duties, 76 FR 65694 (October 24, 2011).

Cash Deposit Requirements

The following cash deposit requirements will be effective upon publication of the final results of this review for shipments of subject merchandise from China entered, or withdrawn from warehouse, for consumption on or after the publication date, as provided by sections 751(a)(2)(C) of the Act: (1) For previously investigated or reviewed China and non-China exporters that received a separate rate in a prior segment of this proceeding, the cash deposit rate will continue to be the existing exporter-specific rate; (2) for all Chinese exporters of subject merchandise that have not been found to be entitled to a separate rate, the cash deposit rate will be the rate for the China-wide entity, which is 216.01 percent; ⁸ and (3) for all non-China exporters of subject merchandise which have not received their own rate, the cash deposit rate will be the rate applicable to the China exporter that supplied that non-China exporter.

⁸ See Wooden Bedroom Furniture From the People's Republic of China: Final Results of Antidumping Duty Administrative Review and Final Determination of No Shipments in Part; 2017, 84 FR 24749 (May 29, 2019).

These deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act and 19 CFR 351.221(b)(4).

Dated: October 3, 2019.
Christian Marsh,
Deputy Assistant Secretary for Enforcement and Compliance.

Appendix I

List of Topics Discussed in the Preliminary Decision Memorandum

I. Summary

II. Background

III. Scope of the Order

IV. Partial Rescission

V. Discussion of the Methodology

VI. Conclusion

Appendix II

Companies for Which the Review is Rescinded

• Billionworth Enterprises Ltd

• Carven Industries Ltd. (BVI)

• Carven Industries Ltd. (HK)

• Dongguan Chengcheng Group Co., Ltd

• Dongguan Fortune Furniture Ltd

• Dongguan Mu Si Furniture Co., Ltd

• Dongguan Nova Furniture Co., Ltd

• Dongguan Singways Furniture Co., Ltd

• Dongguan Sunrise Furniture Co

• Dongguan Sunrise Furniture Co., Ltd

• Dongguan Sunshine Furniture Co., Ltd

• Dongguan Yongpeng Furniture Co., Ltd

• Dongguan Yujia Furniture Co., Ltd

• Dongguan Zhenxin Furniture Co., Ltd

• Dongguan Zhisheng Furniture Co., Ltd

• Dorbest Ltd

• Dream Rooms Furniture (Shanghai) Co. Ltd

• Fairmont Designs

• Fine Furniture (Shanghai) Ltd

• Fleetwood Fine Furniture LP

• Fortune Glory Industrial, Ltd. (HK Ltd.)

• Fortune Glory Industrial Ltd. (H.K. Ltd.)

• Fortune Furniture Ltd

• Fujian Lianfu Forestry Co., Ltd. (Aka Fujian Wonder Pacific, Inc.)

• Fuzhou Huan Mei Furniture Co., Ltd

• Golden Lion International Trading Ltd

• Golden Well International (HK), Ltd./Producer: Zhangzhou XYM Furniture Product Co., Ltd

• Guangdong New Four Seas Furniture Manufacturing Ltd

• Guangdong Yihua Timber Industry Co., Ltd

• Guangzhou Lucky Furniture Co., Ltd

• Guangzhou Maria Yee Furnishings Ltd

• Hang Hai Woodcraft's Art Factory

• Hang Hai Woodcrafts Art Factory

• Jasonwood Industrial Co., Ltd. S.A

• Jiangmen Kinwai International Furniture Co., Ltd

• Jiangmen Kinwai Furniture Decoration Co., Ltd

• Jiangmen Kinwai Furniture Decoration Co., Ltd

• Jiangsu Dare Furniture Co., Ltd

• Jiangsu Xiangsheng Bedtime Furniture Co., Ltd

• Jiangsu Yuexing Furniture Group Co., Ltd

• Jiashan Zhenxuan Furniture Co., Ltd

• Jiedong Lehouse Furniture Co., Ltd

• Lianjiang Zongyu Art Products Co., Ltd

• King's Way Furniture Industries Co., Ltd

• Kingsyear, Ltd

• Lianjiang Zongyu Art Products Co., Ltd

• Meizhou Sunrise Furniture Co., Ltd

• Meizhou Sunrise Furniture Co., Ltd

• Maria Yee, Inc

• Nanhai Jiantai Woodwork Co. Ltd

• Nantong Yangzi Furniture Co. Ltd

• Nantong Wangzhuang Furniture Co. Ltd

• Nathan International Ltd

• Nathan Rattan Factory

• Perfect Line Furniture Co., Ltd

• PuTian JingGong Furniture Co., Ltd

• Pyla HK Ltd

• Qingdao Beiyuan lndustry Trading Co., Ltd

• Qingdao Beiyuan Shengli Furniture Co., Ltd

• Rui Feng Woodwork Co., Ltd

• Rui Feng Woodwork Co., Ltd. AKA Rui Feng Woodwork (Dongguan) Co., Ltd

• Rui Feng Lumber Development Co., Ltd

• Rui Feng Lumber Development Co., Ltd. AKA Rui Feng Lumber Development (Shenzhen) Co., Ltd

• Shanghai Jian Pu Export & Import Co., Ltd

• Shanghai Maoji Imp & Exp Co., Ltd

• Shanghai Sunrise Furniture Co., Ltd

• Shenzhen Diamond Furniture Co., Ltd

• Shenzhen Forest Furniture Co., Ltd

• Shenzhen Jiafa High Grade Furniture Co., Ltd

• Shenzhen Jichang Woodproducts Co. Ltd

• Shenzhen New Fudu Furniture Co., Ltd

• Shenzhen Wonderful Furniture Co., Ltd

• Shenzhen Xingli Furniture Co., Ltd

• Shing Mark Enterprise Co., Ltd

• Songgang Jasonwood Furniture Factory

• Superwood Co. Ltd

• Taicang Sunrise Wood Industry, Co., Ltd

• Taicang Sunrise Wood Industry Co., Ltd

• Taicang Fairmont Designs Furniture Co., Ltd

• Tradewinds Furniture Ltd

• Tradewinds Furniture Ltd. (successor-in-interest to Nanhai Jiantai Woodwork Co.)

• Tube-Smith Enterprise (Haimen) Co., Ltd

• Tube-Smith Enterprise (Zhangzhou) Co., Ltd

• Wanvog Furniture (Kunshan) Co., Ltd

• Weimei Furniture Co., Ltd

• Wuxi Yushea Furniture Co., Ltd

• Xiamen Yongquan Sci-Tech Development Co., Ltd

• Xilinmen Group Co. Ltd

• Yihua Lifestyle Technology Co., Ltd

• Yihua Timber Industry Co., Ltd

• Yihua Timber Industry Co., Ltd. (a.k.a. Guangdong Yihua Timber Industry Co., Ltd.)

• Zhangjiagang Daye Hotel Furniture Co. Ltd

• Zhangzhou Guohui Industrial & Trade Co. Ltd

• Zhejiang Tianyi Scientific & Educational Equipment Co., Ltd

• Zhong Shan Fullwin Furniture Co., Ltd

• Zhongshan Fookyik Furniture Co., Ltd

• Zhongshan Golden King Furniture Industrial Co., Ltd

• Zhoushan For-Strong Wood Co., Ltd

[FR Doc. 2019-22133 Filed 10-9-19; 8:45 am]

BILLING CODE 3510-DS-P